DEPARTMENT OF COMMERCE

Foreign-Trade Zones Board

[Docket T-2-2006]

Foreign-Trade Zone 52 - Suffolk County, New York, Application for Temporary/Interim Manufacturing Authority, TKD Industries, Inc. (Cosmetic Kitting), Ronkonkoma, New York

An application has been submitted to the Executive Secretary of the Foreign-Trade Zones Board (the Board) by the Town of Islip (New York), operator of foreign-trade zone (FTZ) 52, requesting temporary/interim manufacturing (T/IM) authority within FTZ 52, at the facility of TKD Industries, Inc. (TKD) located in Ronkonkoma, New York. The application was filed on June 20, 2006.

The TKD facility (85 employees) is located within FTZ 52 at 200 Trade Zone Drive in Ronkonkoma, New York. Under T/IM procedures, the company has requested authority to manufacture cosmetic kits (HTS 3303.00, 3304.10, 3304.20, 3304.91, and 3305.10; these products enter the United States duty free). The company may source the following input items from abroad for manufacturing the finished products under T/IM authority, as delineated in TKD's application: pre-shave/after-shave (HTS 3307.10); deodorants/antiperspirants (3307.20); bath products (3307.30); plastic boxes (3923.10); plastic bottles (3923.30); plastic caps (3923.50); plastic displays (3923.90); dust covers (3926.90); glass containers (7010.90); and applicators (9616.20). Duty rates on these inputs range from 2.5% to 4.9% ad valorem. T/IM authority could be granted for a period of up to two years. TKD has also submitted a request for permanent FTZ manufacturing authority (for which Board filing is pending), which includes one additional input.

FTZ procedures would allow TKD to elect the finished-product duty rates for the ten imported production inputs listed above. The company indicates that it would also realize logistical/paperwork savings and duty-deferral savings under FTZ procedures.

Public comment is invited from interested parties. Submissions shall be addressed to the Board's Executive Secretary at: Office of the Executive Secretary, Foreign-Trade Zones Board, U.S. Department of Commerce, Room 1115, 1401 Constitution Ave. NW., Washington, DC 20230.The closing period for their receipt is July 27, 2006.

A copy of the application will be available for public inspection at the Office of the Foreign-Trade Zones Board's Executive Secretary at the address listed above.

Dated: June 20, 2006.
Andrew McGilvray,
Acting Executive Secretary.

[FR Doc. E6-10104 Filed 6-26-06; 8:45 am]

BILLING CODE 3510-DS-S